MORRIS K. UDALL SCHOLARSHIP AND EXCELLENCE IN NATIONAL ENVIRONMENTAL POLICY FOUNDATION

Notice of Tucson Basin Recreational Shooting Workshop #1

AGENCY: U.S. Institute for Environmental Conflict Resolution, Morris K. Udall Foundation.

ACTION: Notice of meeting.

Authority: 5 U.S.C. Appendix; 20 U.S.C. 5601-5609.

SUMMARY: The U.S. Institute for Environmental Conflict Resolution will convene a public meeting on Saturday, May 22, 2004, at the Doubletree Hotel at Reid Park, 445 S. Alvernon Way, Tucson, Arizona 85711. The meeting will occur from 1 p.m. to approximately 5 p.m.

Members of the public are invited to attend however, seating is limited and available on a first-come, first-served basis. During this meeting, working groups comprised of Federal, State and local agency and stakeholder representatives will discuss the following: (1) Issues relating to locations for recreational shooting; (2) Safety and enforcement issues; (3) Resource impacts; (4) Education. The meeting will emphasize a problem-solving approach, using a range of practical tools and exercises such as shared history, mapping, and joint fact-finding in order to solicit information and further clarify and address the issues related to recreational shooting in the Tucson Basin.

Background

In 2003, the Tucson Field Office of the Bureau of Land Management (BLM), in the process of developing a management plan for the Ironwood Forest National Monument, requested that the U.S. Institute for Environmental Conflict Resolution conduct a situation assessment on issues related to recreational shooting. Safety concerns and resource damage were identified as significant concerns in the Monument, and the assessment was viewed as an important means to gain an understanding of public attitudes and perceived opportunities for addressing these issues.

At the outset, BLM staff underscored their mandate to manage the Monument for multiple uses, with recreational shooting being one among many appropriate public uses within the Monument.

The BLM perceived a need to bring agencies and stakeholders together to consider developing appropriate management guidelines. Believing that issues around recreational shooting could not be adequately addressed without taking a basin-wide approach, BLM staff sought to identify opportunities to work with a wide array of stakeholders to define a common vision for resolving these resource management and public safety issues. The BLM provided the initial funding for the situation assessment. However, in the early stages of development of the project, the USDA Forest Service's Coronado National Forest and the Arizona Game and Fish Department joined as co-sponsors, confirming the importance of looking at the situation in the Tucson basin as a whole.

All three agencies are now supporting a series of public workshops to explore the issues identified in the situation assessment. Workshop #1 is the first in that series. Dates have not yet been established for subsequent workshops.

In the initial planning for the situation assessment, the sponsors determined that the project would specifically address “recreational shooting,” defined as the discharge of any firearm for any lawful, recreational purpose other than the lawful taking of a game animal. They separated this activity from hunting, which the project was not intended to address.

FOR FURTHER INFORMATION: Any member of the public who desires further information concerning the meeting or wishes to submit oral or written comments should contact Olivia Montes, Administrative Assistant, U.S. Institute for Environmental Conflict Resolution, 130 S. Scott Avenue, Tucson, AZ 85701; phone (520) 670-5299, fax (520) 670-5530, or e-mail at montes@ecr.gov. Requests to make oral comments must be in writing (or by e-mail) to Ms. Montes and be received no later than 5 p.m. Mountain Standard Time on Friday, May 14, 2004. Copies of the draft meeting agenda may be obtained from Ms. Montes at the address, phone and e-mail address listed above.

A copy of the situation assessment “Recreational Shooting in the Tucson Basin: The Potential for Collaborative Dialogue and Action” can be obtained at http://www.ecr.gov/s_publications.htm#Tucson_Basin

Dated: May 4, 2004.
Christopher L. Helms,
Executive Director, Morris K. Udall Scholarship and Excellence in National Environmental Policy Foundation, and Federal Register Liaison Officer.

[FR Doc. 04-10525 Filed 5-7-04; 8:45 am]

BILLING CODE 6820-FN-P